INTERNATIONAL TRADE COMMISSION

[Investigation No. 337-TA-1432]

Certain Mobile Electronic Devices; Notice of Commission Determination Not To Review an Initial Determination Granting a Motion To Amend the Complaint and Notice of Investigation

AGENCY: U.S. International Trade Commission.

ACTION: Notice.

SUMMARY: Notice is hereby given that the U.S. International Trade Commission has determined not to review an initial determination (“ID”) (Order No. 6) of the presiding administrative law judge (“ALJ”) granting Complainant's motion to amend the complaint and notice of investigation to allege infringement of additional patent claims.

FOR FURTHER INFORMATION CONTACT: Namo Kim, Esq., Office of the General Counsel, U.S. International Trade Commission, 500 E Street SW, Washington, DC 20436, telephone (202) 205-3459. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: The Commission instituted this investigation on January 23, 2025, based on a complaint filed by Maxell, Ltd. of Kyoto, Japan (“Maxell”). 90 FR 8032-33 (Jan. 23, 2025). The complaint, as supplemented, alleges violations of section 337 of the Tariff Act of 1930, as amended, 19 U.S.C. 1337 (“section 337”), based on the importation into the United States, the sale for importation, and the sale within the United States after importation of certain mobile electronic devices by reason of the infringement of certain claims of U.S. Patent No. 8,130,280; U.S. Patent No. 11,490,004; U.S. Patent No. 11,750,915; U.S. Patent No. 11,509,953; U.S. Patent No. 12,108,103; and U.S. Patent No. 11,445,241 (“the '241 patent”). Id. The complaint further alleges that a domestic industry exists. Id. The notice of investigation names as respondents Samsung Electronics Co., Ltd. of Suwon-Shi, Republic of Korea and Samsung Electronics America, Inc. of New Jersey (collectively, “Samsung”). Id. The Office of Unfair Import Investigations is not named as a party. Id.

On February 6, 2025, Maxell filed a motion to amend the complaint and notice of investigation to add infringement allegations as to claims 15 and 24 of the '241 patent. Maxell explained that, prior to institution, it submitted a first public supplement to assert claims 15 and 24 of the '241 patent. The notice of investigation, however, did not reflect this supplement. Therefore, Maxell argued that good cause exists because this motion is to address a clerical error in the notice of investigation.

On February 18, 2025, Samsung filed an opposition to Maxell's motion. Samsung argued that there was no clerical error in the notice of investigation, and that Maxell failed to properly add claims 15 and 24 of the '241 patent during the pre-institution stage because Maxell needed to file an amended complaint pursuant to Commission Rule 210.14(a), 19 CFR 210.14(a), to add any additional claims as opposed filing a supplement. Samsung also argued that it would be unduly prejudiced if Maxell's motion is granted.

On February 21, 2025, the ALJ issued the subject ID (Order No. 6) granting Maxell's motion to amend the complaint and notice of investigation pursuant to Commission Rule 210.14(b), 19 CFR 210.14(b). The ID finds that the notice of investigation expressly acknowledged Maxell's public supplements, including the first public supplement that alleged infringement of claims 15 and 24 of the '241 patent, and this acknowledgment is “indicative of a clerical oversight in the listing of instituted asserted claims.” ID at 2; see 90 FR at 8032. The ID also finds that even if there was no clerical error, Maxell has now moved in a timely manner to add claims 15 and 24. Id. at 3. Lastly, the ID finds that any prejudice to Samsung is low because Samsung was on notice of Maxell's intent to add claims 15 and 24. Id. at 3-4.

No petitions for review of the ID were filed.

The Commission has determined not to review the ID.

The Commission vote for this determination took place on March 10, 2025.

The authority for the Commission's determination is contained in section 337 of the Tariff Act of 1930, as amended (19 U.S.C. 1337), and in Part 210 of the Commission's Rules of Practice and Procedure (19 CFR part 210).

By order of the Commission.
Issued: March 10, 2025.
Lisa Barton,
Secretary to the Commission.

[FR Doc. 2025-04049 Filed 3-13-25; 8:45 am]

BILLING CODE 7020-02-P